DEPARTMENT OF HEALTH AND HUMAN SERVICES

Centers for Disease Control and Prevention

[30Day-14-14IZ]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Ready CDC—New—Office of Public Health Preparedness and Response (OPHPR), Centers for Disease Control and Prevention (CDC).

Background and Brief Description

Under the Authority of Section 301 of the Public Health Service Act (42 U.S.C. 241), the Centers for Disease Control and Prevention is responsible for administering the Ready CDC program. Ready CDC is an educational intervention designed to increase awareness about personal and family preparedness and increase the number individuals who are prepared for a disaster in their community. As a response agency, CDC is responsible for responding to national and international disasters. One component of ensuring staff are prepared to respond to disasters is ensuring that the workforce has their personal and family preparedness plans in place. Research has shown that individuals are more likely to respond to an event if they perceive that their family is prepared to function in their absence during an emergency.

The Ready CDC educational intervention consists of a Personal Preparedness Workshop as well as three targeted communications to reinforce concepts discussed during the workshop. A pilot program has already been implemented, targeting only CDC federal employees with a responder role. The audience for this proposed intervention will be all CDC employees, including both federal staff and contractors.

CDC requests Office of Management and Budget (OMB) approval for three years to collect information that will measure the initial preparedness of participants, satisfaction with the Personal Preparedness Workshops, and the change in individual knowledge and behaviors related to personal and family preparedness.

CDC has developed three data collection instruments: (1) Pre- Workshop Survey; (2) Ready CDC Workshop Evaluation; and (3) Follow-Up Survey. Collectively, these instruments are needed to gather, process, aggregate, evaluate, and disseminate information describing the program's processes and outcomes. The information will be used by CDC to document progress toward meeting established program goals and objectives, to evaluate outcomes generated by the Ready CDC Personal Preparedness Workshops and to respond to data inquiries made by other agencies of the federal government.

Survey instrument questions will gather perceptions about personal and regional preparedness from the perspective of the participant. Each participant will be surveyed three times, once before and twice after their participation in the Personal Preparedness Workshop.

It is estimated that there will be a total of 600 respondents per year with an estimated time for data collection of twenty minutes each on the Pre-workshop survey, five minutes each on the Ready CDC Workshop Evaluation, and ten minutes each on the Follow-Up Survey.

Instruments will be administered electronically (by including a link to the survey Web site with the email invitation) with an option for paper copy administration. The Follow-Up Survey will be used to document changes in the categories of questions dealing with preparedness from the initial pre-workshop survey.

The estimated total time for data collection is 35 minutes, resulting in an annualized estimated burden of 350 hours.

There are no costs to respondents except their time.

Estimated Annualized Burden Hours
Type of respondent | Form name | Number of respondents | Number of responses per respondent | Average burden per response (in hours)
CDC Federal Employees and Contractors | Pre-Workshop Survey | 600 | 1 | 20/60
CDC Federal Employees and Contractors | Ready CDC Workshop Evaluation | 600 | 1 | 5/60
CDC Federal Employees and Contractors | Follow-Up Survey | 600 | 1 | 10/60

LeRoy Richardson,
Chief, Information Collection Review Office, Office of Scientific Integrity, Office of the Associate Director for Science, Office of the Director, Centers for Disease Control and Prevention.

[FR Doc. 2014-10617 Filed 5-8-14; 8:45 am]

BILLING CODE 4163-18-P